DEPARTMENT OF ENERGY

Federal Energy Regulatory Commission

Combined Notice of Filings

Take notice that the Commission has received the following Natural Gas Pipeline Rate and Refund Report filings:

Filings Instituting Proceedings

Docket Number: PR19-74-000.

Applicants: DTE Gas Company.

Description: Tariff filing per 284.123(b),(e)/: DTE Gas Company Rate Filing to be effective 9/1/2019.

Filed Date: 8/28/19.

Accession Number: 201908285077.

Comments/Protests Due: 5 p.m. ET 9/18/19.

Docket Number: PR19-75-000.

Applicants: DCP Raptor Pipeline, LLC.

Description: Tariff filing per 284.123(b)(2)+(g): DCP Raptor Pipeline, LLC Rate Case to be effective 9/1/2019.

Filed Date: 8/28/19.

Accession Number: 201908285138.

Comments Due: 5 p.m. ET 9/18/19.

284.123(g) Protests Due: 5 p.m. ET 10/28/19.

Docket Numbers: RP19-1488-000.

Applicants: Natural Gas Pipeline Company of America.

Description: § 4(d) Rate Filing: Amendment to a Negotiated Rate Agreement—Macquarie to be effective 8/28/2019.

Filed Date: 8/28/19.

Accession Number: 20190828-5000.

Comments Due: 5 p.m. ET 9/9/19.

Docket Numbers: RP19-1489-000.

Applicants: Texas Gas Transmission, LLC.

Description: § 4(d) Rate Filing: Filing to incorporate approved changes (RP19-1057 into RP19-1387) to be effective 8/28/2019.

Filed Date: 8/28/19.

Accession Number: 20190828-5024.

Comments Due: 5 p.m. ET 9/9/19.

Docket Numbers: RP19-1490-000.

Applicants: Algonquin Gas Transmission, LLC.

Description: § 4(d) Rate Filing: Negotiated Rate—Boston to SFE 799788 eff 9-1-19 to be effective 9/1/2019.

Filed Date: 8/28/19.

Accession Number: 20190828-5028.

Comments Due: 5 p.m. ET 9/9/19.

Docket Numbers: RP19-1491-000.

Applicants: Algonquin Gas Transmission, LLC.

Description: § 4(d) Rate Filing: Negotiated Rate—BUG to Emera 799788 eff 9-1-19 to be effective 9/1/2019.

Filed Date: 8/28/19.

Accession Number: 20190828-5034.

Comments Due: 5 p.m. ET 9/9/19.

Docket Numbers: RP19-1492-000.

Applicants: Florida Gas Transmission Company, LLC.

Description: § 4(d) Rate Filing: Fuel Filing on 8-28-19 to be effective 10/1/2019.

Filed Date: 8/28/19.

Accession Number: 20190828-5097.

Comments Due: 5 p.m. ET 9/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2019.
Nathaniel J. Davis, Sr.,
Deputy Secretary.

[FR Doc. 2019-19132 Filed 9-4-19; 8:45 am]

BILLING CODE 6717-01-P